DEPARTMENT OF THE INTERIOR

Bureau of Land Management

[NV-056-1430-ES; N-41568-38]

Notice of Realty Action: Correction

AGENCY: Bureau of Land Management, Interior.

ACTION: Correction to Notice of Realty Action.

SUMMARY: On December 6, 2000, a Notice of Realty Action (NORA) was published in the Federal Register for the title transfer of Recreation or Public Purposes Patent #27-96-0002. The NORA incorrectly cited the authority for the transfer as the Federal Land Policy and Management Act. The authority for this transfer is the Recreation & Public Purposes Act.

Dated: December 14, 2000
Rex Wells,
Assistant Field Manager, Las Vegas, NV.

[FR Doc. 00-33037 Filed 12-27-00; 8:45 am]

BILLING CODE 4510-HC-P